DEPARTMENT OF HEALTH AND HUMAN SERVICES

National Institutes of Health

National Institute of Mental Health; Amended Notice of Meeting

Notice is hereby given of a change in the meeting of the National Institute of Mental Health Special Emphasis Panel, October 16, 2002, 8:30 a.m. to October 17, 2002, 5 p.m., Governor's House Hotel, 17th & Rhode Island Avenue, NW., Washington, DC, 20036 which was published in the Federal Register on September 13, 2002, 67 FR 178.

The meeting will be held on the same dates at the St. Gregory Hotel and Suites, 2033 M Street, NW., Washington, DC 20036. The meeting will end at 1:30 p.m. on 10/17/2002. The meeting is closed to the public.

Dated: September 27, 2002.
LaVerne Y. Stringfield,
Director, Office of Federal Advisory Committee Policy.

[FR Doc. 02-25238 Filed 10-3-02; 8:45 am]

BILLING CODE 4140-01-M